DEPARTMENT OF COMMERCE

National Oceanic and Atmospheric Administration

50 CFR Part 622

[I.D. 032101F]

South Atlantic Fishery Management Council; Public Scoping Meetings.

AGENCY: National Marine Fisheries Service (NMFS), National Oceanic and Atmospheric Administration (NOAA), Commerce.

ACTION: Notification of public meetings.

SUMMARY: The Council will hold nine public scoping meetings to gather public comments regarding the use of Marine Protected Areas (MPAs) as a fishery management tool, emphasizing the conservation of essential fish habitat and the species associated with the snapper/grouper complex. These MPAs may be nearshore and/or offshore, as well as natural and/or man-made.

The Council is currently considering the following type of actions regarding MPAs: (1) Permanent closure/no-take; (2) permanent closure/some take allowed; (3) limited duration closure/no take; (4) limited duration closure/some take allowed; (5) spawning area closure/no take; and (6) spawning area closure/some take allowed. During the scoping process, the Council is focusing on management actions involving permanent closures with some take allowed. It is the Council's intent to specifically review areas suggested by the public and the MPA Advisory Panel, using maps of offshore areas, to protect deepwater snapper grouper species. It is the Council's intent to prohibit fishing for and/or harvesting/possessing species in the snapper grouper management unit. It is not the Council's intent to prohibit fishing for and/or the harvesting/possession of pelagic species. The public is invited to comment on all aspects of this approach.

DATES: The meetings will be held in April and May 2001. See SUPPLEMENTARY INFORMATION for specific dates locations and times of the public meetings. Written comments will be accepted through May 21, 2001.

ADDRESSES: Written comments should be sent to Bob Mahood, Eecutive Director, South Atlantic Fishery Management Council, One Southpark Circle, Suite 306, Charleston, SC 29407. Copies of the scoping document for MPAs are available by contacting Kerry O'Malley, South Atlantic Fishery Management Council, One Southpark Circle, Suite 306, Charleston, SC 29407-4699; telephone: 843-571-4366; fax: 843-769-4520; email: kerry.omalley@noaa.gov. The scoping document will also be available at the meetings. See SUPPLEMENTARY INFORMATION for specific locations.

FOR FURTHER INFORMATION CONTACT: Kim Iverson, Public Information Officer; telephone: 843-571-4366; fax: 843-769-4520; email: kim.iverson@noaa.gov.

SUPPLEMENTARY INFORMATION:

Time and Location for Public Meetings

Public scoping meetings will be held at the following dates and locations. All meetings are scheduled to begin at 6:00 p.m.

1. April 16, 2001, Crystal Coastal Civic Center, 3505 Arendell Street, Morehead City, NC 28557; telephone: 252247-3883.

2. April 18, 2001, Blockade Runner Hotel, 275 Waynick Boulevard, Wrightsville Beach, NC 28480; telephone: 910-256-2251.

3. May 1, 2001, Sea Turtle Inn, 1 Ocean Boulevard, Atlantic Beach, FL 32233; telephone: 904-249-7402.

4. May 2, 2001, Radisson Beach Resort, 2600 N. A1A, Fort Pierce, FL 34949; telephone: 561-465-5544.

5. May 3, 2001, Holiday Isle's Resort, US Highway 1, Islamorada, FL 33036; telephone: 305-664-2711.

6. May 9, 2001, Embassy Suites North Charleston Convention Center, 5055 International Boulevard, North Charleston, SC 29418; telephone: 843-747-1882.

7. May 14, 2001, St. John's Inn, Oceanfront at 70th Avenue, N., Myrtle Beach, SC 29572; telephone: 843-918-8000.

8. May 15, 2001, University of Georgia Marine Extension Service, 715 Bay Street, Brunswick, GA 31520; telephone: 912-264-7268.

9. May 16, 2001, Richmond Hill City Hall, 40 Richard R. Davis Drive, Richmond Hill, GA 31324; telephone: 912-756-3345.

Special Accommodations

These meetings are physically accessible to people with disabilities. Requests for sign language interpretation or other auxiliary aids should be directed to the Council office (see ADDRESSES) by April 6, 2001.

Dated: March 27, 2001.
Bruce C. Morehead,
Acting Director, Office of Sustainable Fisheries, National Marine Fisheries Service.

[FR Doc. 01-8050 Filed 3-30-01; 8:45 am]

BILLING CODE 3510-22-S